FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16973F.

Name: A.G. International Freight Forwarding, Inc.

Address: 212 Livermore Avenue, Staten Island, NY 10314.

Date Revoked: April 7, 2003.

Reason: Failed to maintain a valid bond.

License Number: 4651F.

Name: A.T.M.C. Inc.

Address: 2208 NW Market Street, Suite 505, Seattle, WA 98107.

Date Revoked: June 21, 2003.

Reason: Failed to maintain a valid bond.

License Number: 7266N.

Name: America First International, Inc.

Address: 5409 NW 72nd Avenue, Miami, FL 33166.

Date Revoked: June 14, 2003.

Reason: Failed to maintain a valid bond.

License Number: 15908N.

Name: BDP Transport, Inc.

Address: 510 Walnut Street, Philadelphia, PA 19106.

Date Revoked: April 10, 2003.

Reason: Surrendered license voluntarily.

License Number: 14423N.

Name: Balor Marine Corp.

Address: 27 Sunlit Forest Drive, Spring, TX 77381.

Date Revoked: June 11, 2003.

Reason: Failed to maintain a valid bond.

License Number: 11085N.

Name: Beckers International Corp. dba B.I.C. Line.

Address: 4205 NW 36th Avenue, Miami, FL 33142.

Date Revoked: June 22, 2003.

Reason: Failed to maintain a valid bond.

License Number: 14107N.

Name: Caribbean Shipping Services, Inc.

Address: 1505 Dennis Street, Jacksonville, FL 32204.

Date Revoked: June 20, 2003.

Reason: Failed to maintain a valid bond.

License Number: 16805F.

Name: E.I.B. Brokers, Inc.

Address: 2550 NW 72nd Avenue, Miami, FL 33122.

Date Revoked: June 26, 2003.

Reason: Failed to maintain a valid bond.

License Number: 14952N.

Name: Eagle Transportation Services, Inc.

Address: 848 Jesse Jewell Parkway, P.O. Box 100024, Gainesville, GA 30501.

Date Revoked: April 23, 2003.

Reason: Failed to maintain a valid bond.

License Number: 11949N.

Name: Eastern Trans Line, Inc.

Address: 337 Route 17 S., Suite 216, Hasbrouck Heights, NJ 07604.

Date Revoked: June 23, 2003.

Reason: Failed to maintain a valid bond.

License Number: 15565N.

Name: International Equipment Logistics, Inc.

Address: 953 Westminster Avenue, Hillside, NJ 07205-2944.

Date Revoked: June 18, 2002.

Reason: Failed to maintain a valid bond.

License Number: 2808F.

Name: International Trading Partners, Inc. dba ITP.

Address: c/o 91-13 85th Street, Woodhaven, NY 11421.

Date Revoked: June 10, 2003.

Reason: Surrendered license voluntarily.

License Number: 17817F.

Name: Master Freight International Ltd.

Address: 6312 Militia Court, Bensalem, PA 19020.

Date Revoked: July 1, 2003.

Reason: Surrendered license voluntarily.

License Number: 17109N.

Name: Namgene Paik dba Southern Logistic Service.

Address: 8735 Bellanca Avenue, Suite #B, Los Angeles, CA 90045.

Date Revoked: June 28, 2003.

Reason: Failed to maintain a valid bond.

License Number: 16039N.

Name: Neville Johnson dba P.J. Shipping Co.

Address: 112-29 Farmers Boulevard, St. Albans, NY 11412.

Date Revoked: June 21, 2003.

Reason: Failed to maintain a valid bond.

License Number: 4132F.

Name: Deborah S. Witte.

Address: 1656 Poplar Hill Drive, Cross, SC 29436.

Date Revoked: June 4, 2003.

Reason: Failed to maintain a valid bond.

Sandra L. Kusumoto,
Director, Bureau of Consumer Complaints and Licensing.

[FR Doc. 03-17997 Filed 7-15-03; 8:45 am]

BILLING CODE 6730-01-P